INTERNATIONAL BROADCASTING ADVISORY BOARD

Sunshine Act Meetings

TIME AND DATE: December 11, 2024; 9:00 a.m.-12:30 p.m. Local Time.

PLACE: On December 11, 2024, the Board will meet at: Radio Free Europe/Radio Liberty Headquarters, Vinohradská 159a, 100 00 Prague 10.

STATUS: This meeting will be closed to the public.

MATTERS TO BE CONSIDERED: The International Broadcasting Advisory Board (Board) will conduct a meeting closed to the public at the date and time listed above. Board Members (membership includes Chair Kenneth Jarin, Luis Botello, Jamie Fly, Michelle Giuda, Kathleen Matthews, Under Secretary Lee Satterfield (Secretary of State's Representative)), Chief Executive Officer of the U.S. Agency for Global Media (USAGM), the USAGM General Counsel and Acting Board Secretary to the Board, the Secretariat to the Board, and recording secretaries will attend the closed meeting. Certain USAGM staff members who may be called on to brief or support the Board also may attend.

The USAGM General Counsel and Board Secretary has certified that, in his opinion, exemptions set forth in the Government in the Sunshine Act, in particular 5 U.S.C. 552b(c)(2), (6), and (9)(B), permit closure of this meeting.

The entirety of the Board's membership approved the closing of this meeting.

The purpose for closing the meeting is so that the IBAB may decide on hiring certain entity heads. The closed meeting also will focus on discussing the development of internal rules and practices to govern Board processes and functions. This includes developing processes or rules relating to IBAB, USAGM, and the USAGM entities. Publicizing these deliberations would frustrate the implementation of the very items they will be proposing. [This related to (2), (6) and (9).]

In the event that the time, date, or location of this meeting changes, IBAB will post an announcement of the change, along with the new time, date, and/or place of the meeting on its website at https://www.ibab.gov.

Although a separate federal entity, USAGM prepared this notice and will continue to support the Board in accordance with 22 U.S.C. 6205(g).

CONTACT PERSON FOR MORE INFORMATION: Persons interested in obtaining more information should contact USAGM's Executive Director Oanh Tran at (202) 920-2583.

Authority: 5 U.S.C. 552b, 22 U.S.C. 6205(e)(3)(C).

Dated: November 27, 2024.
Meredith L. Meads,
Executive Assistant, USAGM.

[FR Doc. 2024-28366 Filed 11-27-24; 4:15 pm]

BILLING CODE 8610-01-P